NATIONAL TRANSPORTATION SAFETY BOARD

Agenda

Time and Place: 9:30 a.m., Tuesday, March 8, 2005.

Place: NTSB Conference Center, 429 L'Enfant Plaza SW., Washington, DC 20594.

Status: The item is open to the public.

Matters To Be Considered:

7628A Marine Accident Report—Allision of Staten Island Ferry Andrew J. Barberi, St. George, Staten Island, New York, October 15, 2003.

News Media Contact: Telephone: (202) 314-6100.

Individuals requesting specific accommodations should contact Ms. Carolyn Dargan at (202) 314-6305 by Friday, February 25, 2005.

FOR MORE INFORMATION CONTACT: Vicky D'Onofrio, (202) 314-6410.

Dated: February 25, 2005.
Vicky D'Onofrio,
Federal Register Liaison Officer.

[FR Doc. 05-4023 Filed 2-25-05; 1:34 pm]

BILLING CODE 7533-01-M